NATIONAL SCIENCE FOUNDATION

Advisory Committee for Engineering; Notice of Meeting

In accordance with the Federal Advisory Committee Act (Pub., L. 92-463, as amended), the National Science Foundation announces the following meeting:

Name: Advisory Committee for Engineering #1170.

Date/Time: October 21, 2015: 12:00 p.m. to 5:15 p.m. October 22, 2015: 8:30 a.m. to 12:45 p.m.

Place: National Science Foundation, 4201 Wilson Boulevard, Suite 1235, Arlington, Virginia 22230.

Type of Meeting: OPEN.

Contact Person: Evette Rollins, National Science Foundation, 4201 Wilson Boulevard, Suite 505, Arlington, Virginia 22230; 703-292-8300.

PURPOSE OF MEETING: To provide advice, recommendations and counsel on major goals and policies pertaining to engineering programs and activities.

Agenda

Wednesday, October 21, 2015

• Directorate for Engineering Report

• Civil, Mechanical and Manufacturing Innovation Overview

• CMMI Committee of Visitors Report

• Engineering Education and Revolutionizing Engineering Departments Update

• Broader Impacts

Thursday, April 16, 2015

• Perspectives from the Office of the Director

• The Future of Center-scale Multidisciplinary Engineering Research

• Chemical, Bioengineering, Environmental and Transport Systems Overview

• CBET Committee of Visitors Report

• Roundtable on ENG Strategic Activities and Recommendations

Dated: September 17, 2015.
Crystal Robinson,
Committee Management Officer.

[FR Doc. 2015-24018 Filed 9-21-15; 8:45 am]

BILLING CODE 7555-01-P